DEPARTMENT OF TRANSPORTATION

National Highway Traffic Safety Administration

[Docket No. NHTSA-2017-0041; Notice 1]

Nissan North America, Inc., Receipt of Petition for Decision of Inconsequential Noncompliance

AGENCY: National Highway Traffic Safety Administration (NHTSA), Department of Transportation (DOT).

ACTION: Receipt of petition.

SUMMARY: Nissan North America, Inc. (Nissan), has determined that certain model year (MY) 2016-2017 Nissan Titan Crew Cab motor vehicles do not fully comply with Federal Motor Vehicle Safety Standard (FMVSS) No. 201, Occupant Protection in Interior Impact. Nissan filed a noncompliance report dated April 24, 2017. Nissan also petitioned NHTSA on May 16, 2017, for a decision that the subject noncompliance is inconsequential as it relates to motor vehicle safety.

DATES: The closing date for comments on the petition is July 24, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Nissan North America, Inc. (Nissan), has determined that certain model year (MY) 2016-2017 Nissan Titan Crew Cab motor vehicles do not fully comply with paragraphs S7 and S10.4(b)(2) of FMVSS No. 201, Occupant Protection in Interior Impact. Nissan filed a noncompliance report dated April 24, 2017, pursuant to 49 CFR part 573, Defect and Noncompliance Responsibility and Reports. Nissan also petitioned NHTSA on May 16, 2017, pursuant to 49 U.S.C. 30118(d) and 30120(h) and 49 CFR part 556, for an exemption from the notification and remedy requirements of 49 U.S.C. Chapter 301 on the basis that this noncompliance is inconsequential as it relates to motor vehicle safety.

This notice of receipt of Nissan's petition is published under 49 U.S.C. 30118 and 30120 and does not represent any agency decision or other exercise of judgment concerning the merits of the petition.

II. Vehicles Involved: Approximately 44,264 MY 2016-2017 Nissan Titan Crew Cab motor vehicles, manufactured between August 7, 2015, and February 24, 2017, are potentially involved.

III. Noncompliance: During an FMVSS No. 201 test performed by NHTSA and conducted at MGA Research Corporation (MGA) on January 12, 2017, the 2017 Nissan Titan Crew Cab NHTSA test vehicle, failed the HIC(d) value test and therefore did not meet the requirements of paragraphs S7 and S10.4(b)(2) of FMVSS No. 201. Specifically, NHTSA's test vehicle had a HIC(d) value of 1,007.9, exceeding the value permitted by the standard, which states that it should not exceed 1,000.

IV. Rule Text: Paragraph S7 of FMVSS No. 201 states in pertinent part:

S7 Performance Criterion. The HIC(d) shall not exceed 1000 when calculated in accordance with the following formula:

Where the term a is the resultant head acceleration expressed as a multiple of g (the acceleration of gravity), and t1 and t2 are any two points in time during the impact which are separated by not more than a 36 millisecond time interval. . .

Paragraphs S10.4(b)(2) of FMVSS No. 201 states in pertinent part:

S10.4 Rearmost pillar targets.

(b) Target RP2. . .

(2) If a seat belt anchorage is located on the pillar, Target RP2 is any point on the anchorage. . .

V. Summary of Nissan's Petition: Nissan described the subject noncompliance and stated its belief that the noncompliance is inconsequential as it relates to motor vehicle safety.

In support of its petition, Nissan submitted the following reasoning:

1. In the subject vehicles, the HIC(d) value deviation for target RP2 observed in the MGA test is inconsequential because it is impossible for an occupant's head to strike this target at the same angle as the MGA test.

(a) When attempting to replicate the MGA test condition with an AM50 Hybrid III dummy (AM50 ATD), the AM50 ATD's head cannot contact the RP2 compliance test impact point when the rear seat is in the design position. It is not possible for the AM50 ATD to contact the RP2 target in the same head form orientation as used in the FMVSS No. 201U compliance test. This lack of contact is caused by interference between the AM50 and the seat back of the second row seats. Due to this interference, the AM50 ATD's head is 330 mm forward of the RP2 target.

(b) When attempting to replicate the MGA test condition with an AM50 Hybrid III dummy (AM50 ATD), the AM50 ATD's head cannot contact the RP2 compliance test impact point when the rear seat is in the folded position. It is not possible for the AM50 ATD to contact the RP2 target in the same head form orientation as used in the FMVSS No. 201U compliance test. This lack of contact is caused by interference between the AM50 ATD and the back-panel trim. Due to this interference, the AM50 ATD's head is 190 mm forward of the RP2 target.

2. As previously demonstrated in section 1, it is not possible for the AM50 ATD to contact the D-Ring anchor cap in the same head form orientation as used in the MGA test. It was then attempted to replicate any possible real world contact of the AM50 Hybrid III dummy's head (AM50 ATD) and the rear pillar d-ring anchor cap. A small range exists where it is possible for the head of the AM50 ATD to contact the rear seat belt d-ring anchor cap albeit in a manner different than the compliance test. This range is bounded on one end by the AM50 contact with either the rear seat when in the design position or the rear trim when the seat is in the folded position.

(a) Interference between the AM50 ATD and the back of the front seat limits the horizontal approach angle to thirty-four degrees (34°). A test conducted in support of this petition with a horizontal approach angle of 34º and a vertical approach angle of 0º at a velocity of 24.5 kph resulted in a HIC(d) value of 646.2.

(b) With the rear seat in the folded position, in order for the AM50 ATD's head to contact the RP2 target, a horizontal approach angle of seventy-one degrees (71º) would be required; the resultant deceleration, and thus HIC(d) value, would be lower than 1,007.9 due to head contact with the edge of the D-ring bolt trip cap and off-axis loading of the D-Ring bolt. A test conducted in support of this petition with a horizontal approach angle of 71º and vertical approach angle of 0º at a velocity of 24.6 kph resulted in a HIC(d) value of 891.7.

(c) With the rear seat in the design position, in order for the AM50 ATD's head to contact the RP2 target a horizontal approach angle of sixty-five degrees (65º) would be required, with the resultant HIC(d) similar to the above, and well below the regulatory threshold.

3. In addition to the above, Nissan is aware of four crash tests that demonstrate the test dummy's head does not contact the RP2 target during the crash event:

(a) In the Insurance Institute for Highway Safety Side Impact Moving Deformable Barrier (MDB) Test conducted at a ninety-degree (90º) side impact at 50 kph the test dummy head does not contact FMVSS No. 201U S10.4(b)(2) target RP2.

(b) In the New Car Assessment Program (NCAP) Side Impact Moving Deformable Barrier Test conducted at 61.9 kph, the test dummy head does not contact FMVSS No. 201U S10.4(b)(2) target RP2.

(c) In a frontal impact sled test conducted as part of an internal Nissan evaluation, the test dummy's head, in a fully rearward position, does not contact the RP2 target.

(d) In a second row 18 mph side impact rigid pole test conducted as part of an internal evaluation, the test dummy's head does not contact the RP2 target.

Nissan concluded by expressing the belief that the subject noncompliance is inconsequential as it relates to motor vehicle safety, and that its petition to be exempted from providing notification of the noncompliance, as required by 49 U.S.C. 30118, and a remedy for the noncompliance, as required by 49 U.S.C. 30120, should be granted.

To view Nissan's petition analyses and any supplemental information in its entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Nissan no longer controlled at the time it determined that the noncompliance existed. However, any decision on this petition does not relieve vehicle distributors and dealers of the prohibitions on the sale, offer for sale, or introduction or delivery for introduction into interstate commerce of the noncompliant vehicles under their control after Nissan notified them that the subject noncompliance existed.

Authority: 49 U.S.C. 30118, 30120: delegations of authority at 49 CFR 1.95 and 501.8.

Jeffrey M. Giuseppe,
Director, Office of Vehicle Safety Compliance.

[FR Doc. 2017-13084 Filed 6-22-17; 8:45 am]

BILLING CODE 4910-59-P